NATIONAL CAPITAL PLANNING COMMISSION

Notice of Final Adoption and Effective Date

AGENCY: National Capital Planning Commission.

ACTION: Notice of final adoption of and effective date for a revised Parks and Open Space Element for the Federal Elements of the Comprehensive Plan for the National Capital.

SUMMARY: The National Capital Planning Commission adopted the Parks and Open Space Element (Element) of the “Comprehensive Plan for the National Capital: Federal Elements” on December 6, 2018. The Element guides planning and development, and addresses matters related to Federal parks and open space in the National Capital Region, which includes the District of Columbia; Montgomery and Prince George's Counties in Maryland; Arlington, Fairfax, Loudoun, and Prince William Counties in Virginia; and all cities within the boundaries of these counties. The Element provides the policy framework for Commission actions on plans and projects subject to Commission review. The Element is available online for review at https://www.ncpc.gov/plans/compplan/.

DATES: The revised Element will become effective February 15, 2019.

FOR FURTHER INFORMATION CONTACT: Contact Surina Singh at compplan@ncpc.gov or by phone at (202) 482-7233.

Authority: 40 U.S.C. 8721(a).

Dated: December 6, 2018.
Anne R. Schuyler,
General Counsel.

[FR Doc. 2018-26990 Filed 12-14-18; 8:45 am]

BILLING CODE P